DEPARTMENT OF HOUSING AND URBAN DEVELOPMENT

[Docket No. FR-4565-N-21]

Notice of Proposed Information Collection: Comment Request; Request for Final Endorsement of Credit Instrument

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: November 6, 2000.

ADDRESSES: Interested persons are invited to submit comments regarding this proposal. Comments should refer to the proposal by name and/or OMB Control Number and should be sent to: Wayne Eddins, Reports Management Officer, Department of Housing and Urban Development, 451 7th Street, SW., L'Enfant Building, Room 8202, Washington, DC 20410, telephone (202) 708-5221 (this is not a toll-free number) for copies of the proposed forms and other available information.

FOR FURTHER INFORMATION CONTACT: Michael L. McCullough, Department of Housing and Urban Development, 451 7th Street, SW., Washington, DC 20410, telephone number (202) 708-3000, (this is not a toll-free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) evaluate the accuracy of the agency's estimate of the burden of the proposed collection of information; (3) enhance the quality, utility, and clarity of the information to be collected; and (4) minimize the burden of the collection of information on those who are to respond; including the use of appropriate automated collection techniques or other forms of information technology, e.g., permitting electronic submission of responses.

This Notice also lists the following information:

Title of Proposal: Request for Final Endorsement of Credit Instrument.

OMB Control Number, if applicable: 2502-0016.

Description of the need for the information and proposed use: 24 CFR 200.100—The credit instrument shall be initially and finally endorsed simultaneously for insurance pursuant to a firm commitment to insure upon completion. Advances of construction funds are to be insured pursuant to a firm commitment of insured advances, initial endorsement of the credit instrument shall occur before disbursement of any mortgage proceeds. After all advances of mortgage proceeds, terms, and conditions of the firm commitment are met to the satisfaction of the Department, HUD, will again endorse the credit instrument. Further, the mortgagor must certify at final endorsement of the loan for mortgage insurance that the property covered by the mortgage is free and clear of all liens other than such mortgage, and that there will be no other outstanding unpaid obligations contracted in connection with the mortgage transaction.

Form HUD-92023 is to request final endorsement of the credit instrument by the Department. It is completed by the mortgagee to indicate the schedule of advances made on the project and the final advance to be disbursed immediately upon final endorsement. The reverse side of the form provides for certifications by the mortgagor and the general contractor that there will not be any outstanding unpaid obligations following receipt of the final advance of mortgage proceeds, except such obligations as may be approved by the Commissioner as to term, form and amount.

Agency form number, if applicable: HUD-92023.

Estimation of the total numbers of hours needed to prepare the information collection including number of respondents, frequency of response, and hours of response: The estimated number of respondents is 465, frequency of responses is 1, total annual burden hours requested are 465.

Status of the proposed information collection: Reinstatement without change.

Authority: The Paperwork Reduction Act of 1995, 44 U.S.C., Chapter 35, as amended.

Dated: August 30, 2000.
William C. Apgar,
Assistant Secretary for Housing-Federal Housing Commissioner.

[FR Doc. 00-22982 Filed 9-6-00; 8:45 am]

BILLING CODE 4210-27-M